DEPARTMENT OF COMMERCE

National Oceanic and Atmospheric Administration

[RTID 0648-XF419]

Marine Mammals; File No. 29471

AGENCY: National Marine Fisheries Service (NMFS), National Oceanic and Atmospheric Administration (NOAA), Commerce.

ACTION: Notice; receipt of application.

SUMMARY: Notice is hereby given that the Fort Wayne Zoo, 3411 Sherman Blvd., Fort Wayne, IN 46808 (Responsible Party: Rick Schuiteman), has applied in due form for a permit to import one California sea lion (Zalophus californianus) from the West Edmonton Mall, Edmonton, Alberta, Canada, to the Fort Wayne Zoo for public display.

DATES: Written comments must be received on or before March 12, 2026.

ADDRESSES: The application documents are available upon written request via email to NMFS.Pr1Comments@noaa.gov.

Written comments on this application should be submitted via email to NMFS.Pr1Comments@noaa.gov. Please include File No. 29471 in the subject line of the email comment.

Those individuals requesting a public hearing should submit a written request via email to NMFS.Pr1Comments@noaa.gov. The request should set forth the specific reasons why a hearing on this application would be appropriate.

FOR FURTHER INFORMATION CONTACT: Courtney Smith, Ph.D., or Jennifer Skidmore (301) 427-8401.

SUPPLEMENTARY INFORMATION: The subject permit is requested under the authority of the Marine Mammal Protection Act of 1972, as amended (MMPA; 16 U.S.C. 1361 et seq.), the regulations governing the taking and importing of marine mammals (50 CFR part 216).

The applicant is proposing to import one adult female California sea lion from the West Edmonton Mall to the Fort Wayne Zoo for public display purposes. The subject sea lion (Local ID 10214/“Quinty,” aged 18 years), was captive-born in Amsterdam, Netherlands, and has resided at the West Edmonton Mall since 2008. This acquisition is a recommendation from the Association of Zoos and Aquariums and will enhance the social grouping needs at Fort Wayne Zoo. The applicant has requested that any issued permit be valid through May 31, 2027.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 5, 2026.
Shannon Bettridge,
Chief, Marine Mammal and Sea Turtle Conservation Division, Office of Protected Resources, National Marine Fisheries Service.

[FR Doc. 2026-02595 Filed 2-9-26; 8:45 am]

BILLING CODE 3510-22-P